CONSUMER PRODUCT SAFETY COMMISSION

Sunshine Act Meetings

Time and Date: Wednesday, May 12, 2010, 9 a.m.-11 a.m.

Place: Hearing Room 420, Bethesda Towers, 4330 East West Highway, Bethesda, Maryland.

Status: Commission Meeting—Open to the Public.

Matters to be Considered:

1. Pending Decisional Matter: Infant Bath Seats—Final Rule:

A live webcast of the Meeting can be viewed at http://www.cpsc.gov/webcast/index.html. For a recorded message containing the latest agenda information, call (301) 504-7948.

Contact Person for More Information: Todd A. Stevenson, Office of the Secretary, U.S. Consumer Product Safety Commission, 4330 East West Highway, Bethesda, MD 20814 (301) 504-7923.

Dated: May 3, 2010.
Todd A. Stevenson,
Secretary.

[FR Doc. 2010-10834 Filed 5-4-10; 4:15 pm]

BILLING CODE 6355-01-P